DEPARTMENT OF HOMELAND SECURITY

Transportation Security Administration

Revision of Agency Information Collection Activity Under OMB Review: TSA Reimbursable Screening Services Program (RSSP) Pilot Request

AGENCY: Transportation Security Administration, DHS.

ACTION: 30-Day notice.

SUMMARY: This notice announces that the Transportation Security Administration (TSA) has forwarded the Information Collection Request (ICR), Office of Management and Budget (OMB) control number 1652-0073, abstracted below, to OMB for review and approval for a revision of the currently approved collection under the Paperwork Reduction Act (PRA). The ICR describes the nature of the information collection and its expected burden. The collection involves public and private entities requesting participation in TSA's Reimbursable Screening Services Program (RSSP), currently a pilot program for up to eight locations, to obtain TSA security screening services outside of an existing primary passenger airport terminal screening area where screening services are currently provided or would be eligible to be provided under TSA's annually appropriated passenger screening program.

DATES: Send your comments by February 10, 2023. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on June 21, 2022, 87 FR 36868.

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: TSA Reimbursable Screening Services Program (RSSP) Pilot Request.

Type of Request: Revision of a currently approved collection.

OMB Control Number: 1652-0073.

Form(s): NA.

Affected Public: Public or private entities regulated by TSA.

Abstract: The RSSP is authorized by section 225, Division A, of the Consolidated Appropriations Act, 2019, Public Law 116-6, 133 Stat. 13 (Feb. 15, 2019), as amended by the Consolidated Appropriations Act, 2021, Section 223, Division F, Public Law 116-260, 134 Stat. 1459 (Dec. 27, 2020), and as amended by the Consolidated Appropriations Act, 2023, Section 222, Division F, Public Law 117-328 (Dec. 29. 2022) to extend RSSP through 2025. Under this provision, TSA may establish a pilot for public or private entities regulated by TSA to request reimbursable screening services outside of an existing primary passenger terminal screening area where screening services are currently provided or eligible to be provided under TSA's annually appropriated passenger screening program. For purposes of section 225, “screening services” means “the screening of passengers, flight crews, and their carry-on baggage and personal articles, and may include checked baggage screening if that type of screening is performed at an offsite location that is not part of a passenger terminal of a commercial airport.” TSA is collecting this information to enable public and private entities regulated by TSA to request screening services under the RSSP.

TSA is revising the title of OMB control number 1652-0073 from “TSA Reimbursable Screening Services Program Request” to “TSA Reimbursable Screening Services Program Pilot Request” to more accurately represent the information collection.

Number of Respondents: 15.

Estimated Annual Burden Hours: An estimated 492 hours annually.

Dated: January 5, 2023.
Christina A. Walsh,
TSA Paperwork Reduction Act Officer, Information Technology.

[FR Doc. 2023-00316 Filed 1-10-23; 8:45 am]

BILLING CODE 9110-05-P